DEPARTMENT OF TRANSPORTATION

Federal Highway Administration

Environmental Assessment; Finding of No Significant Impact (FONSI): Mount Vernon Circle Parking and Trail Improvements, George Washington Memorial Parkway, Mount Vernon, Fairfax County, VA

AGENCY: Federal Highway Administration (FHWA), DOT.

SUMMARY: The FHWA, in cooperation with the National Park Service (NPS) is issuing a Finding of No Significant Impact (FONSI) for parking, roadway, sidewalks, and multi-use trail improvement at the Mount Vernon Estate and Gardens. These improvements will accommodate current and planned future demand for parking, remove parking from the Mount Vernon Traffic Circle, and enhance pedestrian, motorist and cyclist safety at the southern end of the George Washington Memorial Parkway located in Mount Vernon, Fairfax County, Virginia.

FOR FURTHER INFORMATION: Jack Van Dop, Technical Specialist, Federal Highway Administration, 21400 Ridgetop Circle, Sterling, VA 20166, Telephone: 703-404-6282, e-mail: jack.j.vandop@fhwa.dot.gov.

SUPPLEMENTARY INFORMATION: The FHWA, in cooperation with the NPS, is issuing a FONSI for the preferred alternative as identified in the Environmental Assessment (EA) for Mount Vernon Circle Parking and Trail Improvements for the George Washington Memorial Parkway. This project is located in Mount Vernon, Fairfax County, Virginia and includes expansion of the west parking lot, and extension of the Potomac Heritage National Scenic Trail Segment from the southern end of the Mount Vernon Circle to the existing Mount Vernon Trail east of the Mount Vernon Circle. The purpose of the EA is to record the selection of a preferred alternative and its potential impacts on the environment. The determination as to whether the selected alternative (undertaking) will have (or not have—FONSI) a significant impact on the environment has been made pursuant to the Council on Environmental Quality's regulations (40 CFR 1500) for implementing the National Environmental Policy Act.

The FONSI can be viewed at http://www.efl.fhwa.dot.gov/planning/nepa/ and http://www.nps.gov/gwmp/.

Authority: 23 U.S.C. 315; 49 CFR 1.48.

Issued on: November 19, 2004.
Melisa L. Ridenour,
Division Engineer, Eastern Federal Lands Highway Division, Federal Highway Administration, Sterling, Virginia.

[FR Doc. 04-26501 Filed 11-30-04; 8:45 am]

BILLING CODE 4910-22-P